DEPARTMENT OF HOUSING AND URBAN DEVELOPMENT

[Docket No. FR-7041-N-02]

60-Day Notice of Proposed Information Collection: Phase 1 Evaluation of the Housing Choice Voucher Mobility Demonstration

AGENCY: Office of the Assistant Secretary for Policy Development and Research, HUD.

ACTION: Notice.

SUMMARY: The Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: March 26, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: Phase 1 Evaluation of the Housing Choice Voucher (HCV) Mobility Demonstration.

OMB Approval Number: Pending.

Type of Request: New.

Form Number: N/A.

Description of the need for the information and proposed use: The Office of Policy Development and Research (PD&R), at the U.S. Department of Housing and Urban Development (HUD), is proposing the collection of information for Phase 1 Evaluation of the Housing Choice Voucher (HCV) Mobility Demonstration. Under contract with HUD PD&R, Abt Associates Inc. and its subcontractors the Urban Institute, MEF Associates, Social Policy Research Associates, and Sage Consulting are conducting Phase 1 of a planned two-phase Evaluation of the HCV Mobility Demonstration. The Demonstration is a multi-site, randomized-controlled trial of the effect of housing mobility-related services on the share of HCV holders with children that move to lower poverty areas.

This Demonstration will allow participating public housing agencies (PHAs) throughout the country to implement housing mobility programs by offering mobility-related services to increase the number of voucher families with children living in opportunity areas. Participating PHAs will work together in their regions to adopt administrative policies that further enable housing mobility, increase landlord participation, and reduce barriers for families to move across PHA jurisdictions through portability. Eligible families that consent to participate in the Demonstration are randomly assigned to either receive mobility-related services or to not receive services.

Through the Demonstration, HUD will implement, test, and evaluate whether housing mobility programs expand access to opportunity neighborhoods. The Demonstration will roll out in two phases over a period of approximately six years. The Phase 1 Evaluation has a five-year period of performance and will evaluate the effectiveness of a comprehensive set of mobility-related services at no more than 10 sites. For voucher holders, outcomes of the mobility-related services are hypothesized to be increases in the number of families who move to lower poverty areas. The Phase 1 evaluation will also document the implementation of the Demonstration and analyze the cost-effectiveness of mobility-related services.

Data collection efforts include the families that are part of the treatment and control groups, as well as PHA and mobility-related services staff, and landlords of properties participating in the HCV program. Data will be gathered through a variety of methods including informational interviews and discussions, direct observation, and analysis of administrative records.

Respondents: Public housing agency administrators/staff/contractors managing or implementing the mobility-related services, families enrolled in the HCV Mobility Demonstration, and owners of properties that accept Housing Choice Vouchers.

Estimated Number of Respondents: This data collection will affect no more than 12,400 respondents: 12,000 families participating in the HCV Mobility Demonstration (study participants) will complete a baseline survey, 200 study participants will complete follow up interviews, 100 public housing agency/housing mobility services provider staff will complete interviews, 20 public housing agency/housing mobility services provider staff will participate in cost study data collection activities, and 80 landlords that accept Housing Choice Vouchers will complete interviews.

Estimated Time per Response: The estimated time per response is 1.5-3 hours, depending on the data collection instrument and respondent.

Frequency of Response: The frequency of response is 1 survey completion or 1 interview.

Estimated Total Annual Burden Hours: The total annual burden of this information collection is 24,760 hours.

Estimated Total Annual Cost: The total annual cost for this information collection is $201,821.

Respondent's Obligation: Voluntary.

Legal Authority: The data collection is conducted under Title 12, United States Code, Section 1701z and Section 3507 of the Paperwork Reduction Act of 1995, 44, U.S.C., 35, as amended.

Information collection | Number of respondents | Frequency of response | Responses per annum | Burden hour per response | Annual burden hours | Hourly cost per response | Cost
Study Participant Enrollment and Baseline Survey | 12,000 | 1 | 1 | 2 | 24,000 | ¹ $7.39 | $177,360
Study Participant Follow Up Interviews | 200 | 1 | 1 | 1.5 | 300 | 7.39 | 2,217
PHA Staff/Mobility Services Provider Interviews | 100 | 1 | 1 | 3 | 300 | ² 52.94 | 15,882
Cost Study Data Collection Activities with PHA staff | 20 | 1 | 1 | 2 | 40 | ³ 52.94 | 2,118
Landlord Interview | 80 | 1 | 1 | 1.5 | 120 | ⁴ 35.37 | 4,244
Total | 12,400 |  |  |  | 24, 760 |  | 201,821

B. Solicitation of Public Comment

¹ Households participating in the HCV Demonstration will range widely in employment position and earnings. We have estimated the hourly wage based on the annual average household income for HCV holders as of 2019 (based on 2010 Census data) accessed January 8, 2021 at https://www.huduser.gov/portal/datasets/picture/about.html.

² The estimated cost burden for PHA and mobility services provider staff participating in interviews is based on the average compensation for all local and state government employees as of September 2020 ($52.94), accessed online January 8, 2021 at: https://www.bls.gov/news.release/pdf/ecec.pdf.

³ The estimate cost burden of Cost Study Data collection by PHA staff is based on the average compensation for all local and state government employees as of September 2020 ($52.94), accessed online January 8, 2021 at: https://www.bls.gov/news.release/pdf/ecec.pdf.

⁴ Estimated cost burden for property owners is based on average hourly and weekly earnings of all employees on private nonfarm payrolls by industry sector, seasonally adjusted. U.S. Bureau of Labor Statistics. November 2020(P) for all professional and business services ($35.37). https://www.bls.gov/news.release/empsit.t19.htm.

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses. HUD encourages interested parties to submit comment in response to these questions.

C. Authority

Section 3507 of the Paperwork Reduction Act of 1995, 44 U.S.C. Chapter 35.

The General Deputy Assistant Secretary for Policy Development and Research, Todd Richardson, having reviewed and approved this document, is delegating the authority to electronically sign this document to submitter, Nacheshia Foxx, who is the Federal Register Liaison for HUD, for purposes of publication in the Federal Register.

Nacheshia Foxx,
Federal Liaison for the Department of Housing and Urban Development.

[FR Doc. 2021-01454 Filed 1-22-21; 8:45 am]

BILLING CODE 4210-67-P